DEPARTMENT OF HEALTH AND HUMAN SERVICES

Administration for Children and Families

[OMB No. 0970-0159]

Proposed Information Collection Activity; Comment Request

Proposed Projects

Title: Statewide Automated Child Welfare Information System (SACWIS) Assessment Review Guide.

Description: The Department of Health and Human Services is authorized under section 474 of the Social Security Act to provide funding to state title IV-E agencies for information systems that support the provision of services to the nation's foster care and adoption populations. The Act authorizes funding for the planning, design, development, or installation of statewide automated child welfare systems (SACWIS). The data from these systems allows the Department to report accurate, meaningful and reliable information to Congress about the extent of problems facing these children and the effectiveness of assistance provided to this population.

Currently, SACWIS enable State efforts to meet the following Federal reporting requirements: The Adoption and Foster Care Analysis and Reporting System (AFCARS) required by section 479(b)(2) of the Social Security Act; the National Child Abuse and Neglect Data System (NCANDS); Child Abuse Prevention and Treatment Act (CAPTA); and the Chafee Independent Living Program National Youth in Transition Database (NYTD). SACWIS systems also support States' efforts to provide the information to conduct the Child and Family Service Reviews. Currently, 40 States and the District of Columbia have developed, or are developing, a SACWIS with Federal financial participation.

The SACWIS Assessment Reviews validate that all aspects of the project, as described in the approved Advance Planning Document, have been adequately completed, and conform to applicable regulations and policies. States use the SACWIS Assessment Review Guide (SARG) to document system components and functioning; each State's submission is unique and State-specific. These reviews are usually initiated by the State; however, ACF reserves the right to initiate SACWIS Assessment Reviews, at any time in the system life cycle. Submission of the SACWIS SARG and other supporting documentation by States, completed at the point that they have completed system development and the system is operational statewide, initiates a SACWIS Assessment Review. The additional supporting documentation submitted as part of the review process should be readily available to States as a result of their routine good project management practices. The SARG and supporting documentation may be submitted electronically.

The information collected in the SACWIS Assessment Review Guide will allow State and Federal officials to determine if the State's SACWIS meets the requirements of title IV-E Federal Financial Participation (FFP) defined at 45 CFR 1355.50. Additionally, other States will be able to use the documentation provided as part of this review process to inform their own system development efforts.

No small businesses will be involved in this data collection effort.

Respondents: Title IV-E Agencies.

Annual Burden Estimates
Instrument | Number of respondents | Number of responses per respondent | Average burden hours per response | Total burden hours
SACWIS Assessment Review Guide (SARG) | 3 | 1 | 250 | 750

Estimated Total Annual Burden Hours: 750.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2011-332 Filed 1-10-11; 8:45 am]

BILLING CODE 4184-01-P